DEPARTMENT OF HEALTH AND HUMAN SERVICES

Office of Inspector General

Program Exclusions: January 2003

AGENCY: Office of Inspector General, HHS.

ACTION: Notice of program exclusions.

During the month of January 2003, the HHS Office of Inspector General imposed exclusions in the cases set forth below. When an exclusions is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject city, state | Effective date
PROGRAM-RELATED CONVICTIONS
BAEZ-LOPEZ, ROBERTO | 02/20/2003
YAUCO, PR
BEARD, WALITA G | 02/20/2003
CHATTANOOGA, TN
CLEVENGER, PATRICIA | 02/20/2003
COTTAGEVILLE, WV
COLON-NEGRON, ARABELLA | 02/20/2003
YAUCO, PR
CRUZ-BAEZ, EDGAR | 02/20/2003
PONCE, PR
DAVILA, JOSE | 02/20/2003
RIDGEFIELD PARK, NJ
GETTMANN, CECILIA BARBER | 02/20/2003
MASSENA, NY
GIBSON, CAROLYN P | 02/20/2003
MACON, GA
GORDON, DENNIS D | 02/20/2003
COLUMBUS, OH
GUSTAFSON, CHERYL ANNE | 02/20/2003
FEDERAL WAY, WA
HAWKINS, JOSEPHINE | 02/20/2003
JACKSON, MS
HERNANDEZ, MARCELINO VINCENT | 02/20/2003
TAFT, CA
HYLOR, SYDEAL | 02/20/2003
MIAMI, FL
I, CHEA | 02/20/2003
LONG BEACH, CA
JONES, CLARENCE MARSHALL | 02/20/2003
DETROIT, MI
JONES, DARLA | 02/20/2003
ASHTABULA, OH
KASHISHYAN, EDIK | 02/20/2003
GLENDALE, CA
KRAWCZUK, WILLIAM J | 02/20/2003
SYRACUSE, NY
LONG, VANDY Y | 02/20/2003
LONG BEACH, CA
MALIK, IFTKAR | 02/20/2003
DIX HILLS, NY
MATTEI-FRANCESCHINI, HILDRED | 02/20/2003
YACO, PR
NALLS, DOUGLAS EARL | 02/20/2003
MIAMI, FL
NICOLOFF, ROBBIN GAIL | 02/20/2003
FORT WORTH, TX
NOLETTE, RICHARD E | 02/20/2003
BIDDEFORD, ME
NORTHEASTERN HOME HEALTH SVCS | 02/20/2003
MOUNTAIN TOP, PA
ORTEGA-ORTIZ, ORLANDO | 02/20/2003
PENUELAS, PR
ORTIZ-VARGAS, DANIEL | 02/20/2003
YAUCO, PR
PEREA-VICENTE, MIGUEL | 02/20/2003
MAYAGUEZ, PR
PETRUTSAS, YVETTE MUSETA | 02/20/2003
HOUSTON, TX
QUINONES-ACEVEDO, PABLO | 02/20/2003
RIO PIEDRAS, PR
ROSICH-BACHS, JAIME | 02/20/2003
HORMIGUEROS, PR
ROSS, JEMEKEA | 02/20/2003
COLUMBUS, OH
RUIZ, MARCOS | 02/20/2003
FT LAUDERDALE, FL
SANDS, WILLIAM JAMES | 02/20/2003
SNEADS, FL
SAYERS, PAMELA PAIGE | 02/20/2003
OLATHE, KS
SCOTT, ERIKA DEANNA | 02/20/2003
FRESNO, CA
SCOTT EVAN BERNSTEIN, DPM, P A | 08/23/2001
MIAMI, FL
SINGLETARY, BRITTANY | 02/20/2003
HOUSTON, TX
SOTO-SANTIAGO, REYNALDO | 02/20/2003
ARECIBO, PR
STRANGE-BOSTON, DONALD C | 02/20/2003
ASHLAND, VA
THAI, THANH SON | 02/20/2003
CANON CITY, CO
WOZNIAK, JOHN V | 02/20/2003
CLINTON, CT
YOUNG, OLGA IRIS | 02/20/2003
CHULA VISTA, CA
FELONY CONVICTION FOR HEALTH CARE FRAUD
ELROD, SELINA WANDELLA | 02/20/2003
FORT COLLINS, CO
JENKINS, JEANETTE | 02/20/2003
N CHARLESTON, SC
VEHOSKI, MARYALICE | 02/20/2003
DANBURY, CT
WIBORG, WARREN ROGER JR | 02/20/2003
NORFOLK, NE
FELONY CONTROL SUBSTANCE CONVICTION
BARAN, ROBIN | 02/20/2003
PHILIPSBURG, PA
DEARING, ANITA F MAHONEY | 02/20/2003
GREENWOOD, IN
DELGADO-LEON, RENE PEDRO | 02/20/2003
RIVERDALE, GA
JACKSON, SALLY RACHAEL CALLAHA | 02/20/2003
OXFORD, OH
NIGN, DEBRA LYNN | 02/20/2003
MANSFIELD, OH
PAYNE, JAMES DAVID | 02/20/2003
NEW ALBANY, IN
RENDON-GONZALEZ, LUIS ANOTONIO | 02/20/2003
TRUJILLO ALTO, PR
SCHAEFFER, SUSAN | 02/20/2003
HUMMELSTOWN, PA
VACEK, BEVERLY KELLY | 02/20/2003
PALACIOS, TX
VAUGHN, MARY RUTH | 02/20/2003
ARLINGTON, TX
WESLEY, YVETTE MONIQUE | 02/20/2003
PLANO, TX
WILLIAMS, JOYCE LAREE | 02/20/2003
SIDNEY, MT
PATIENT ABUSE/NEGLECT CONVICTIONS
AUMACK, MICHAEL T | 02/20/2003
KALAMAZOO, MI
CARTER, ANDREA | 02/20/2003
MILTON, DE
CATANACH, PATRICK L | 02/20/2003
CANON CITY, CO
FISH, LOIS ANNE | 02/20/2003
REDLANDS, CA
FLETCHER, DAWN L | 02/20/2003
MORRIS, NY
GARNER, MONICA | 02/20/2003
WOODRUFF, SC
HARRIS, TENASSA R | 02/20/2003
BOLIVAR, TN
HAYNES, CARYLON J | 02/20/2003
GAITHERSBURG, MD
MORGAN, CONSTANCE | 02/20/2003
LAUREL, MS
OKEZIE, THEODORE EZE | 02/20/2003
SEATTLE, WA
REYES, ANTONIO CUTIN | 02/20/2003
AVENAL, CA
ROSS, KAREN | 02/20/2003
ROCHESTER, NY
SAWYER, JOEL THOMAS | 02/20/2003
MOOSE LAKE, MN
YEN, ALBERT ANDREW | 02/20/2003
HOUSTON, TX
CONVICTION FOR HEALTH CARE FRAUD
ANSON, ANNA VICTORIA | 02/20/2003
CANON CITY, CO
CONVICTION-OBSTRUCTION OF AN INVESTIG.
WEGEHAUPT, BETTY L | 02/20/2003
BELCOURT, ND
CONTROLLED SUBSTANCE CONVICTIONS
GENEROSE, CATHERINE | 02/20/2003
HAZLETON, PA
MURPHY, DAVID M | 02/20/2003
HARRISBURG, PA
LICENSE REVOCATION/SUSPENSION/SURRENDERED
ADAMCZYK, BONNIE MOCK | 02/20/2003
SIDMAN, PA
ALBERS, LESLIE A | 02/20/2003
PINE RIDGE, SD
ANDERSON, STEPHEN A | 02/20/2003
LOCKPORT, NY
AQUILA, JAMES F | 02/20/2003
CATHEDRAL CITY, CA
ARBEIT, JOAN WICKLIFFE | 02/20/2003
TUCSON, AZ
BANKS, MICHAEL ANTHONY | 02/20/2003
TEXARKANA, TX
BECKER, MARE PARFINOVIC | 02/20/2003
MESA, AZ
BEHRENS, KATHY J | 02/20/2003
TUCSON, AZ
BILODEAU, BETTY DALEY | 02/20/2003
PHOENIX, AZ
BOURNE, ANDREA | 02/20/2003
BUCKATUNNA, MS
BROWN, MARY GODDARD | 02/20/2003
REEDSVILLE, PA
BROWN, LEONARD DANIEL | 02/20/2003
ONEONTA, AL
BURRELL, JOEL BRION | 02/20/2003
ELYRIA, OH
CARTER, JAMIE S | 02/20/2003
PHOENIX, AZ
CASHMORE, IRENE OLKER | 02/20/2003
MEDFORD, NY
CASTILLO, ARMANDO MOL | 02/20/2003
PORTERVILLE, CA
CAZARES, JESUS ERNESTO | 02/20/2003
TUCSON, AZ
CHEATOM, GREGORY | 02/20/2003
PITTSBURGH, PA
CHICKERING-MOORE, DORIS MARIE | 02/20/2003
SAN ANTOINIO, TX
CHO, JIN SOOK | 02/20/2003
ANAHEIM, CA
CLARKE, KILDARE ISAAC | 02/20/2003
WHITE PLAINS, NY
COLE, EDILLIA C | 02/20/2003
FAIR OAKS, CA
CUMMINGS, WILLIAM G | 02/20/2003
SUFFERN, NY
DELPEZZO, ELIZABETH M | 02/20/2003
CENTER VALLEY, PA
DELUCIA, TONI L | 02/20/2003
OIL CITY, PA
DILLON, DONNA YVONNE | 02/20/2003
GILBERT, AZ
DOYLE, LISA KATHERINE | 02/20/2003
PHOENIX, AZ
DRAGOO, TAMI LYNN | 02/20/2003
PEORIA, IL
DUFFUS, STEPHANIE JOAN | 02/20/2003
FRISCO, TX
ELSIRGANY, JANET M | 02/20/2003
CASE GRANDE, AZ
FERGUSON, ROBERT C | 02/20/2003
WAPAKONETA, OH
FORD, EUGENE R | 02/20/2003
SUFFOLK, VA
GABALDON, ANTONIA | 02/20/2003
PHOENIX, AZ
GALEY, JOHN SCOTT | 02/20/2003
PHOENIX, AZ
GALVAN, CAROLE JEAN | 02/20/2003
MCALLEN, TX
GELDERNICK, WILLIAM JACOB | 02/20/2003
CHICAGO, IL
GHAFUR, AMINA ABDUL | 02/20/2003
DENVER, CO
GIL DE RUBIO, HECTOR | 02/20/2003
FOREST HILLS, NY
GINTER, NANCY LEE | 02/20/2003
BEDFORD, IN
GIUNTA, JOSEPH LIBORIO | 02/20/2003
WINCHESTER, VA
GONZALEZ, SHERRY L | 02/20/2003
PUEBLO WEST, CO
GORDON, REBECCA A | 02/20/2003
CAPE MAY CT HOUSE, NJ
GRAINEY, JOAN | 02/20/2003
HUNTINGDON, PA
GREENOUGH, NIKKI LARON | 02/20/2003
AURORA, NE
GRIFFIN, JUDITH GRACE | 02/20/2003
VILLAGE OF OAK CREEK, AZ
GUSTAFSON, PETER F | 02/20/2003
TUSCON, AZ
HARROLD, LAURA LEE | 02/20/2003
PORTAGE, IN
HAWKER, JAMES B | 02/20/2003
MESA, AZ
HOOVER, MELISSA MARIE | 02/20/2003
EXETER, CA
HUSSEY, BARBARA LYNN | 02/20/2003
GRAND RAPIDS, MI
HUTTON, DEAN | 02/20/2003
UKIAH, CA
JAGGI, SHERYL L | 02/20/2003
CORRY, PA
JOHNSON, KENT ROBERT | 02/20/2003
RIVERSIDE, CA
JONES, SHERRY LYNN | 02/20/2003
HAMMOND, IN
JUTTE, DONALD LEE | 02/20/2003
CINCINNATI, OH
KABATO, ZENAWI | 02/20/2003
FAIRFAX, VA
KEEHAN, MICHAEL F | 02/20/2003
HACIENDA HGTS, CA
KEEN, SUSIE C | 02/20/2003
GRUNDY, VA
KEENAN, ROYAN CHRISTINE | 02/20/2003
RICHMOND, CA
KELLENBERGER, MATTHEW JOHN | 02/20/2003
SPRINGFIELD, IL
KELLY, JOSEPH L III | 02/20/2003
NORFOLK, VA
KONOW, SUZANNE MARY | 02/20/2003
BUCKEYE, AZ
KUHLMAN, KELVIN HAROLD | 02/20/2003
NEW ALBANY, IN
KULL, LOLITA JEAN | 02/20/2003
LAKE HAVASU CITY, AZ
KULP, MELINDA GOODLING | 02/20/2003
EPHRATA, PA
LARSON, SUSAN HUMPHREY | 02/20/2003
SCOTTSDALE, AZ
LAWLESS, JACKIE GLEE | 02/20/2003
SPRINGFIELD, IL
LEAMER, SANDRA | 02/20/2003
BARNESBORO, PA
LEE, CHANG DEOK | 02/20/2003
LOS ANGELES, CA
LEWIS, VERNA M | 02/20/2003
DALEVILLE, VA
LONG, KERI M | 02/20/2003
APACHE JUNCTION, AZ
LOWELL-SENTURIA, LISA B | 02/20/2003
NEW YORK, NY
LYONS, DORIS C | 02/20/2003
CHESAPEAKE, VA
MACCHI, DAVID MICHAEL | 02/20/2003
MARTINEZ, CA
MAGANA-NIEBLA, RAFAEL | 02/20/2003
BURNSVILLE, MN
MAISTER, JAMES M | 02/20/2003
TAMPA, FL
MAKAR, YOUSSEF NASHED | 02/20/2003
BIRMINGHAM, AL
MALDONADO, EDWARD JAMES | 02/20/2003
DALTON CITY, IL
MARTIN, BRENDA CAROL | 02/20/2003
UVALDE, TX
MASON, SHERYL L | 02/20/2003
JARRAH, VA
MCGEHEE, SHELLY LYNN | 02/20/2003
OTTAWA, KS
MERRIS, KATHLEEN S | 02/20/2003
FREMONT, CA
MILLBANK, MARCIA ANN | 02/20/2003
SAN GABRIEL, CA
MILLER, JOHN EDWARD | 02/20/2003
LOS ANGELES, CA
MOLYNEAUX, JUAN J | 02/20/2003
NEW YORK, NY
MORGAN, MICHAEL P | 02/20/2003
NORFOLK, VA
NADGIR, LAKSHMI | 02/20/2003
LOS ANGELES, CA
NORRIS, DENISE KOSLOWSKY | 02/20/2003
MESA, AZ
NUNN, MYRTLE R | 02/20/2003
PHOENIX, AZ
O'NEAL, BENJAMIN THOMAS | 01/20/2003
TUCSON, AZ
O'NEIL, AMY E | 02/20/2003
NARRAGANSETT, RI
PELLEGRINO, TAMMY IRVA | 02/20/2003
ATCO, NJ
PERCHOROWICZ, JUDITH MARGARET | 02/20/2003
MISSION VIEJO, CA
POTACCO, PHILIP | 02/20/2003
SOUTH ORANGE, NJ
POWERS, MARILYN | 02/20/2003
SCOTTSDALE, AZ
PRATER, SHAWN L | 02/20/2003
TEMPE, AZ
RADEKA, NICKOLAS | 02/20/2003
WILMINGTON, NC
RAE, JAMES RICHARD | 02/20/2003
TUCSON, AZ
RARRICK, RICHARD JAY | 02/20/2003
S HOLLAND, IL
RICHARD, CHRISTIAN MADISON | 02/20/2003
IRVINE, CA
ROBBINS, RICHARD J | 02/20/2003
GLENDALE, AZ
RODRIGUES, DIANE SUSAN ALLAN | 02/20/2003
SAFFORD, AZ
SHEFFER, LEE ALLAN | 02/20/2003
OROVILLE, CA
SLADE, MAX A | 02/20/2003
PRESCOTT VALLEY, AZ
SPERANDIO, CHRISTOPHER PAUL | 02/20/2003
RICHMOND, VA
STANITZ, C JAMES III | 02/20/2003
ELMWOOD PARK, IL
STARBUCK, JOHN M | 02/20/2003
HOUSTON, TX
STEPHNEY, KAREN | 02/20/2003
GREENVILLE, MS
STEVENS, CRISTY ANN | 02/20/2003
MESA, AZ
STRAIN, STEPHEN F | 02/20/2003
NASHVILLE, TN
STRATTON, MARIT | 02/20/2003
RAMONA, CA
TAYLOR, SONDRA J | 02/20/2003
NEWPORT NEWS, VA
TAYLOR, GILDA BONITA | 02/20/2003
E ST LOUIS, IL
TAYLOR, TANYA | 02/20/2003
PHOENIX, AZ
TOMBACK, DAVID | 02/20/2003
KEW GARDENS, NY
TURNER, ESTHER INEZ | 02/20/2003
DEL CITY, OK
URELL, COLEEN RAE | 02/20/2003
TUCSON, AZ
WALTERS, CECILIA | 02/20/2003
MARS, PA
WATKINS, ELIZABETH LUCILLE | 02/20/2003
LAS VEGAS, NV
WEAPU, WALTER | 02/20/2003
BUCKEYE, AZ
WEBER, JEFFREY D | 02/20/2003
PHOENIX, AZ
WHITE, DELORES V | 02/20/2003
GILBERT, AZ
WIEGENSTEIN, GWENDOLYN ANN | 02/20/2003
CATHEDRAL CITY, CA
WILLIAMS, KATHLEEN E | 02/20/2003
YORK, PA
WILLIAMS, ROBIN SMITH | 02/20/2003
BELLEVUE, NE
WOOTEN, STACY | 02/20/2003
HOUSTON, TX
ZAJACS, LISA C | 02/20/2003
EVANS CITY, PA
FEDERAL/STATE EXCLUSION/SUSPENSION
BEREZHANSKIY, VALERIY | 02/20/2003
GLENVIEW, IL
LYUBEZNAYA, YELENA | 02/20/2003
BUFFALO GROVE, IL
NAPADOV, VALERY | 02/20/2003
NORTHBROOK, IL
ORTENBERG, OLEG | 02/20/2003
DEERFIELD, IL
FRAUD/KICKBACKS
L & L PSYCHOLOGICAL SVCS, P C | 10/31/2002
OLD GREENWICH, CT
LONSKI, MICHAEL W | 10/31/2002
OLD GREENWICH, CT
MICHAEL LONSKI, PHD, P C | 10/31/2002
OLD GREENWICH, CT
OWNED/CONTROLLED BY CONVICTED ENTITIES
A BASTECKI CHIROPRACTIC | 02/20/2003
AMES, IA
ANTHONY E PERROTTI, D O, P A | 02/20/2003
PEMBROKE PINES, FL
PRAET CHIROPRACTIC | 02/20/2003
FLAGSTAFF, AZ
FAILURE TO PROVIDE PAYMENT INFORMATION
JACKSON, SHEILA L | 02/20/2003
SHREVEPORT, LA
JACKSON, CLEVE | 02/20/2003
SHREVEPORT, LA
RELIABLE HOME HEALTH CARE INC | 02/20/2003
SHREVEPORT, LA
DEFAULT ON HEAL LOAN
COHEN, DANIEL B | 12/16/2002
SOUTHFIELD, MI
COHN, MITCHELL A | 12/10/2002
HASLET, MI
LEE, SHERMAN T | 12/10/2002
S PASADENA, CA

Dated: February 3, 2003.
Katherine B. Petrowski,
Director, Exclusions Staff, Office of Inspector General.

[FR Doc. 03-3608 Filed 2-13-03; 8:45 am]

BILLING CODE 4150-04-P